DEPARTMENT OF HEALTH AND HUMAN SERVICES

Meeting of the Advisory Group on Prevention, Health Promotion, and Integrative and Public Health

AGENCY: Office of the Surgeon General of the United States Public Health Service, Office of the Assistant Secretary for Health, Office of the Secretary, Department of Health and Human Services.

ACTION: Notice.

SUMMARY: In accordance with Section 10(a) of the Federal Advisory Committee Act, Public Law 92-463, as amended (5 U.S.C. App.), notice is hereby given that a meeting is scheduled to be held for the Advisory Group on Prevention, Health Promotion, and Integrative and Public Health (the “Advisory Group”). The meeting will be open to the public. Information about the Advisory Group and the agenda for this meeting can be obtained by accessing the following Web site: http://www.surgeongeneral.gov/initiatives/prevention/advisorygrp/index.html.

DATES: The meeting will be held on April 28 and 29, 2014. Exact start and end times will be published closer to the meeting date at: http://www.surgeongeneral.gov/initiatives/prevention/advisorygrp/index.html.

ADDRESSES: The meeting will be held at 200 Independence Ave. SW., Room 505A, Washington, DC 20201 on April 28, 2014. The meeting will take place via teleconference on April 29, 2014.

FOR FURTHER INFORMATION CONTACT: Office of the Surgeon General, 200 Independence Ave. SW., Washington, DC 20201; 202-205-9517; prevention.council@hhs.gov.

SUPPLEMENTARY INFORMATION: The Advisory Group is a non-discretionary federal advisory committee that was initially established under Executive Order 13544, dated June 10, 2010, to comply with the statutes under Section 4001 of the Patient Protection and Affordable Care Act, Public Law 111-148. The Advisory Group was established to assist in carrying out the mission of the National Prevention, Health Promotion, and Public Health Council (the Council). The Advisory Group provides recommendations and advice to the Council.

The Advisory Group was terminated on September 30, 2012, by Executive Order 13591, dated November 23, 2011. Authority for the Advisory Group to be re-established was given under Executive Order 13631, dated December 7, 2012. Authority for the Advisory Group to continue to operate until September 30, 2015 was given under Executive Order 13652, dated September 30, 2013.

It is authorized for the Advisory Group to consist of not more than 25 non-federal members. The Advisory Group currently has 22 members who were appointed by the President. The membership includes a diverse group of licensed health professionals, including integrative health practitioners who have expertise in (1) worksite health promotion; (2) community services, including community health centers; (3) preventive medicine; (4) health coaching; (5) public health education; (6) geriatrics; and (7) rehabilitation medicine.

During this meeting, the Advisory Group will have round table discussions with representatives of Council member departments and develop recommendations for the Council for the upcoming year.

Members of the public who wish to attend the meeting on April 28, 2014 or to participate by phone in the April 29, 2014 meeting must register by 12:00 p.m. EST on April 21, 2014. Individuals should register for public attendance at prevention.council@hhs.gov by providing your full name and affiliation. Individuals who plan to attend the meeting and need special assistance and/or accommodations, i.e., sign language interpretation or other reasonable accommodations, should indicate so when they register. The public will have the opportunity to provide comments to the Advisory Group on April 28, 2014; public comment will be limited to 3 minutes per speaker. Registration via email (prevention.council@hhs.gov) is also required for the public comment session. Any member of the public who wishes to have printed materials distributed to the Advisory Group for this scheduled meeting should submit material to prevention.council@hhs.gov no later than 12:00 p.m. EST on April 21, 2014.

Dated: March 25, 2014.
Corinne M. Graffunder,
Designated Federal Officer, Advisory Group on Prevention, Health Promotion, and Integrative and Public Health, Office of the Surgeon General.

[FR Doc. 2014-07848 Filed 4-8-14; 8:45 am]

BILLING CODE 4163-18-P